DEPARTMENT OF THE INTERIOR

National Park Service

[2462-PYB]

Information Collection Sent to the Office of Management and Budget (OMB) for Approval; OMB Control Number 1024-0022; Backcountry Use Permit

AGENCY: National Park Service, Interior.

ACTION: Notice; request for comments.

SUMMARY: We (National Park Service, NPS) have sent an Information Collection Request (ICR) to OMB for review and approval. We summarize the ICR below and describe the nature of the collection and the estimated burden and cost. This ICR is scheduled to expire on November 30, 2010. We may not conduct or sponsor and a person is not required to respond to a collection of information unless it displays a currently valid OMB control number. However, under OMB regulations, we may continue to conduct or sponsor this information collection while it is pending at OMB.

DATES: You must submit comments on or before December 29, 2010.

ADDRESSES: Send your comments and suggestions on this information collection to the Desk Officer for the Department of the Interior, Office of Information and Regulatory Affairs, OMB, at (202) 395-5806 (fax) or OIRA_DOCKET@OMB.eop.gov (e-mail). Please provide a copy of your comments to Garry Oye, Chief of Wilderness Stewardship Division, National Park Service, 1201 Eye Street NW., (Room 1004), Washington DC 20005; via fax at (202) 371-6623; or via e-mail at Garry_Oye@nps.gov.

FOR FURTHER INFORMATION CONTACT: To request additional information about this ICR, contact Garry Oye by mail, fax, or e-mail (see ADDRESSES) or by phone at (202) 513-7090.

SUPPLEMENTARY INFORMATION: OMB Control Number: 1024-0022.

Title: Backcountry Use Permit (36 CFR 1.5, 1.6, and 2.10).

Form Number: 10-404A.

Type of Request: Extension of a currently approved collection.

Description of Respondents: Individuals wishing to use backcountry areas within national parks.

Respondent's Obligation: Required to obtain or retain a benefit.

Frequency of Collection: On occasion.

Estimated Number of Respondents: 285,000.

Estimated Number of Responses: 285,000.

Completion Time per Response: 0.083 hours.

Estimated Annual Burden Hours: 23,750.

Estimated Annual Nonhour Burden Cost: None.

Abstract: The Backcountry Use Permit (Form 10-404A) is used to implement a backcountry reservation system and provide access into backcountry zones where registration is required or limits are imposed in accordance with regulations. Such permitting enhances the ability of the NPS to issue hazard warnings, to conduct search and rescue efforts, and to provide resource protection.

The objectives of the permit system are to ensure: (1) Requests by backcountry users are evaluated by park managers in accordance with applicable statutes and NPS regulations; (2) use of consistent standards and permitting criteria throughout the agency; and (3) to the extent possible, use of a single permitting document.

Comments: On July 19, 2010, we published in the Federal Register (75 FR 41879) a notice of our intent to request that OMB renew this information collection. In that notice, we solicited comments for 60 days, ending on September 17, 2010. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: November 22, 2010.
Robert Gordon,
NPS, Information Collection Clearance Officer.

[FR Doc. 2010-29971 Filed 11-26-10; 8:45 am]

BILLING CODE 4310-70-P